DEPARTMENT OF ENERGY

Energy Information Administration

Agency Information Collection Proposed Extension

AGENCY: U.S. Energy Information Administration (EIA), Department of Energy (DOE).

ACTION: Notice and request for comments.

SUMMARY: EIA invites public comment on the proposed three-year extension, with changes, to the Petroleum Supply Reporting System (PSRS), as required under the Paperwork Reduction Act of 1995. The PSRS consists of six weekly surveys that make up the Weekly Petroleum Supply Reporting System (WPSRS), eight monthly surveys that make up the Monthly Petroleum Supply Reporting System (MPSRS), and one annual survey.

DATES: EIA must receive all comments on this proposed information collection no later than November 28, 2025. If you anticipate any difficulties in submitting your comments by the deadline, contact the person listed in the ADDRESSES section of this notice as soon as possible.

ADDRESSES: You may submit comments, identified by OMB control number 1905-0165, by email at EIA-FRNcomments@eia.gov. Include the OMB control number listed in the subject line of the message.

FOR FURTHER INFORMATION CONTACT: Kenneth Pick, EIA Clearance Officer, at (202) 586-5562. The forms and instructions are available on EIA's website at www.eia.gov/survey/.

SUPPLEMENTARY INFORMATION: EIA uses WPSRS surveys to collect data from a sample of operators on input, production, imports, and inventory levels of crude oil, hydrocarbon gas liquids, petroleum products, and biofuels. EIA uses MPSRS surveys to collect data from all in-scope operators on input, production, imports, biofuel feedstocks consumed, refinery capacity, biofuel plant production capacity, fuels consumed in plant operations, and annual storage capacity of crude oil, hydrocarbon gas liquids petroleum products, and biofuels. EIA uses annual Form EIA-820 to collect data on refinery capacity, refinery fuels and feedstocks consumed, and the quantity of crude oil received by method of transportation.

This information collection request contains:

(1) OMB No.: 1905-0165;

(2) Information Collection Request Title: Petroleum Supply Reporting System (PSRS);

(3) Type of Request: Three-year extension with changes;

(4) Purpose: The surveys included in the PSRS collect information that is largely unavailable from other sources on production, input, inventory levels, imports, inter-regional movements, and fuels and feedstocks consumed for plant operation, for crude oil, hydrocarbon gas liquids, petroleum products, and biofuels. PSRS surveys also collect storage capacities for crude oil, hydrocarbon gas liquids, petroleum products, and biofuels, refinery capacities, biofuel production capacities, and biofuel feedstocks consumed.

EIA requires data from PSRS surveys to meet the requirements of energy data users for credible, reliable, and timely energy information. EIA uses PSRS survey data in statistical reports including, but not limited to, the Weekly Petroleum Status Report (WPSR), Petroleum Supply Monthly (PSM), and the Monthly Energy Review (MER). EIA uses PSRS survey data to support analysis and projection work with results reported in the Short-Term Energy Outlook (STEO), Annual Energy Outlook (AEO), and other reports. EIA makes reports available at https://www.eia.gov/. EIA also uses PSRS data to complete monthly and annual reports of U.S. petroleum and biofuel supplies to the International Energy Agency to support U.S. participation as an IEA member county. In some cases, agencies outside of EIA publish data sourced from PSRS surveys in their own reports: for example, bioenergy statistics reported by the U.S. Department of Agriculture.

Data from PSRS surveys provide data to inform policy and business decisions. The data promote efficient markets by providing transparency to petroleum and biofuel supplies. Use of PSRS data by academic researchers, educators, news media, and the general public promotes understanding of energy and its interaction with the economy and the environment.

(4a) Proposed Changes to Information Collection: EIA proposes minor modifications to all PSRS survey instructions to align the language with other PSRS surveys, without substantially changing the intention of the language.

Form EIA-819, Monthly Report of Fuels From Non-Biogenic Waste and Biofuels (Change to Form and Instructions)

EIA proposes three modifications to Form EIA-819 form and instructions:

1. EIA proposes changing the name of the form from Monthly Biofuels Fuel Oxygenates, Isooctane, and Isooctene Report to Monthly Report of Fuels from Non-Biogenic Waste and Biofuels to allow the data collection to evolve with industry changes in non-traditional technologies and feedstocks to produce fuels to supplement traditional petroleum fuels.

2. EIA proposes revision of the disclosure language in the instructions to align treatment of EIA-819 data with that of all other PSRS surveys. The current disclosure rules for feedstock consumption are a remnant of the discontinued EIA-22M, Monthly Biodiesel Production Survey. Industry has repeatedly expressed interest in getting more data on feedstock consumption for all plants and separately for biodiesel and renewable diesel plants. The current disclosure rules do not allow for publishing that level of detail. The proposed revision would treat biofuel feedstock consumption the same as all other petroleum supply feedstock data, allowing for publication of aggregate data that may allow for estimation of information reported by a specific respondent when few respondents report, or the data is dominated by one or two large respondents.

3. EIA proposes discontinuation of Part 10 of the Form EIA-819. Respondents have not reported any data in part 10a since its inception. EIA eliminated the data collected in part 10b from petroleum balances published in the Petroleum Supply Monthly beginning in 2019. We continued to collect and publish Methyl Tertiary Butyl Ether (MTBE) and Ethyl Tertiary Butyl Ether (ETBE) production, but EIA has determined this data collection has limited use.

(5) Annual Estimated Number of Respondents: 4,671;

EIA-800 consists of 105 respondents

EIA-802 consists of 50 respondents

EIA-803 consists of 95 respondents

EIA-804 consists of 105 respondents

EIA-805 consists of 790 respondents

EIA-806 consists of 180 respondents

EIA- 809 consists of 150 respondents

EIA-810 consists of 133 respondents

EIA-812 consists of 110 respondents

EIA-813 consists of 240 respondents

EIA-814 consists of 290 respondents

EIA-815 consists of 1,475 respondents

EIA-816 consists of 450 respondents

EIA-817 consists of 40 respondents

EIA- 819 consists of 275 respondents

EIA- 820 consists of 133 respondents

Pretest methodology consists of 50 respondents

(6) Annual Estimated Number of Total Responses: 4,671;

(7) Annual Estimated Number of Burden Hours: 185,686;

(8) Annual Estimated Reporting and Recordkeeping Cost Burden: $17,638,313 (185,686 estimated burden hours times $94.99). EIA estimates that respondents will have no additional costs associated with the surveys other than the burden hours and the maintenance of the information during the normal course of business.

Comments are invited on whether or not: (a) The proposed collection of information is necessary for the proper performance of agency functions, including whether the information will have a practical utility; (b) EIA's estimate of the burden of the proposed collection of information, including the validity of the methodology and assumptions used, is accurate; (c) EIA can improve the quality, utility, and clarity of the information it will collect; and (d) EIA can minimize the burden of the collection of information on respondents, such as automated collection techniques or other forms of information technology.

Statutory Authority: 15 U.S.C. 772(b) and 42 U.S.C. 7101 et seq.

Signed in Washington, DC, on September 25, 2025.
Samson A. Adeshiyan,
Director, Office of Statistical Methods and Research, U.S. Energy Information Administration.

[FR Doc. 2025-18870 Filed 9-26-25; 8:45 am]

BILLING CODE 6450-01-P